DEPARTMENT OF ENERGY

Federal Energy Regulatory Commission

Combined Notice of Filings

Take notice that the Commission has received the following Natural Gas Pipeline Rate and Refund Report filings:

Filings Instituting Proceedings

Docket Number: PR17-54-000.

Applicants: B&W Pipeline, LLC.

Description: Supplemental Information/Request of B&W Pipeline, LLC under PR17-54. Stipulation and Agreement.

Filed Date: 3/21/19.

Accession Number: 201903215143.

Comments/Protests Due: 5 p.m. ET 4/11/19.

Docket Number: PR19-32-001.

Applicants: Southern California Gas Company.

Description: Tariff filing per 284.123(b),(e)+(g): Offshore Delivery Service Rate Revision—March 2019 to be effective 11/28/2018;

Filed Date: 3/22/19.

Accession Number: 201903225001.

Comments Due: 5 p.m. ET 4/12/19.

284.123(g) Protests Due: 5 p.m. ET 5/21/19.

Docket Number: PR19-51-000.

Applicants: Kansas Gas Service, A Division of ONE Gas, Inc.

Description: Tariff filing per 284.123(b),(e)+(g): Revision to Statement of Operating Conditions to be effective 2/5/2019;

Filed Date: 3/21/19.

Accession Number: 201903215167.

Comments Due: 5 p.m. ET 4/11/19.

284.123(g) Protests Due: 5 p.m. ET 5/20/19.

Docket Numbers: RP19-892-000.

Applicants: Southern Natural Gas Company, L.L.C.

Description: § 4(d) Rate Filing: SCANA Negotiated Rate to be effective 5/1/2019.

Filed Date: 3/26/19.

Accession Number: 20190326-5052.

Comments Due: 5 p.m. ET 4/8/19.

Docket Numbers: RP19-893-000.

Applicants: Algonquin Gas Transmission, LLC.

Description: § 4(d) Rate Filing: Negotiated Rate—Boston 510798 to SFE 798877 eff 4-1-19 to be effective 4/1/2019.

Filed Date: 3/26/19.

Accession Number: 20190326-5063.

Comments Due: 5 p.m. ET 4/8/19.

Docket Numbers: RP19-894-000.

Applicants: Alliance Pipeline L.P.

Description: Compliance filing Alliance Pipeline Order 587-Y (Docket RM96-1-041) Compliance Filing to be effective 8/1/2019.

Filed Date: 3/26/19.

Accession Number: 20190326-5077.

Comments Due: 5 p.m. ET 4/8/19.

Docket Numbers: RP19-895-000.

Applicants: Iroquois Gas Transmission System, L.P.

Description: Compliance filing 032619 FERC Order 587-Y (NAESB) Compliance Filing to be effective 8/1/2019.

Filed Date: 3/26/19.

Accession Number: 20190326-5092.

Comments Due: 5 p.m. ET 4/8/19.

Docket Numbers: RP19-896-000.

Applicants: Young Gas Storage Company, Ltd.

Description: Compliance filing Initial Settlement Implementation Compliance Filing to be effective 1/1/2019.

Filed Date: 3/26/19.

Accession Number: 20190326-5111.

Comments Due: 5 p.m. ET 4/8/19.

Docket Numbers: RP19-897-000.

Applicants: Texas Eastern Transmission, LP.

Description: § 4(d) Rate Filing: Negotiated Rate—MC Global 911524 releases eff 4-1-19 to be effective 4/1/2019.

Filed Date: 3/26/19.

Accession Number: 20190326-5112.

Comments Due: 5 p.m. ET 4/8/19.

Docket Numbers: RP19-898-000.

Applicants: Greylock Pipeline, LLC.

Description: Compliance filing NASB compliance to be effective 8/1/2019.

Filed Date: 3/26/19.

Accession Number: 20190326-5128.

Comments Due: 5 p.m. ET 4/8/19.

Docket Numbers: RP19-899-000.

Applicants: Rover Pipeline LLC.

Description: Compliance filing NAESB Version 3.1 Compliance to be effective 8/1/2019.

Filed Date: 3/26/19.

Accession Number: 20190326-5140.

Comments Due: 5 p.m. ET 4/8/19.

Docket Numbers: RP19-900-000.

Applicants: Gulf States Transmission LLC.

Description: Compliance filing NAESB Version 3.1 Compliance to be effective 8/1/2019.

Filed Date: 3/26/19.

Accession Number: 20190326-5141.

Comments Due: 5 p.m. ET 4/8/19.

Docket Numbers: RP19-901-000.

Applicants: Lake Charles LNG Company, LLC.

Description: Compliance filing NAESB Version 3.1 Compliance to be effective 8/1/2019.

Filed Date: 3/26/19.

Accession Number: 20190326-5142.

Comments Due: 5 p.m. ET 4/8/19.

Docket Numbers: RP19-902-000.

Applicants: Millennium Pipeline Company, LLC.

Description: § 4(d) Rate Filing: Negotiated Rate Svc Agmt Filing—DTE to be effective 4/1/2019.

Filed Date: 3/26/19.

Accession Number: 20190326-5164.

Comments Due: 5 p.m. ET 4/8/19.

Docket Numbers: RP19-903-000.

Applicants: El Paso Natural Gas Company, L.L.C.

Description: § 4(d) Rate Filing: Negotiated Rate Agreements Filing (Targa_United Dairymen) to be effective 4/1/2019.

Filed Date: 3/26/19.

Accession Number: 20190326-5225.

Comments Due: 5 p.m. ET 4/8/19.

Docket Numbers: RP19-904-000.

Applicants: Freebird Gas Storage, L.L.C.

Description: Compliance filing FERC Order No. 587-Y Compliance Filing to be effective 8/1/2019.

Filed Date: 3/26/19.

Accession Number: 20190326-5228.

Comments Due: 5 p.m. ET 4/8/19.

Docket Numbers: RP19-905-000.

Applicants: Dominion Energy Cove Point LNG, LP.

Description: § 4(d) Rate Filing: DECP—Rate Schedule LTS to be effective 4/26/2019.

Filed Date: 3/26/19.

Accession Number: 20190326-5230.

Comments Due: 5 p.m. ET 4/8/19.

Docket Numbers: RP19-906-000.

Applicants: Caledonia Energy Partners, L.L.C.

Description: Compliance filing FERC Order No. 587-Y Compliance Filing to be effective 8/1/2019.

Filed Date: 3/26/19.

Accession Number: 20190326-5231.

Comments Due: 5 p.m. ET 4/8/19.

Docket Numbers: RP19-907-000.

Applicants: East Cheyenne Gas Storage, LLC.

Description: Compliance filing FERC Order No. 587-Y Compliance Filing to be effective 8/1/2019.

Filed Date: 3/26/19.

Accession Number: 20190326-5232.

Comments Due: 5 p.m. ET 4/8/19.

Docket Numbers: RP19-908-000.

Applicants: High Island Offshore System, L.L.C.

Description: Compliance filing Order No. 587-Y Compliance Filing to be effective 8/1/2019.

Filed Date: 3/26/19.

Accession Number: 20190326-5233.

Comments Due: 5 p.m. ET 4/8/19.

Docket Numbers: RP19-909-000.

Applicants: Mississippi Hub, LLC.

Description: Compliance filing FERC Order No. 587-Y Compliance Filing to be effective 8/1/2019.

Filed Date: 3/26/19.

Accession Number: 20190326-5235.

Comments Due: 5 p.m. ET 4/8/19.

Docket Numbers: RP19-910-000.

Applicants: Gulf Shore Energy Partners, LP.

Description: Compliance filing Order No. 587-Y &#40;NAESB&#41; to be effective 8/1/2019.

Filed Date: 3/26/19.

Accession Number: 20190326-5236.

Comments Due: 5 p.m. ET 4/8/19.

Docket Numbers: RP19-911-000.

Applicants: Rockies Express Pipeline LLC.

Description: Annual Incidental Purchases and Sales Report of Rockies Express Pipeline LLC under RP19-911.

Filed Date: 3/26/19.

Accession Number: 20190326-5250.

Comments Due: 5 p.m. ET 4/8/19.

Docket Numbers: RP19-912-000.

Applicants: Trailblazer Pipeline Company LLC.

Description: Annual Incidental Purchases and Sales Report of Trailblazer Pipeline Company LLC under RP19-912.

Filed Date: 3/26/19.

Accession Number: 20190326-5251.

Comments Due: 5 p.m. ET 4/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2019.
Nathaniel J. Davis, Sr.,
Deputy Secretary.

[FR Doc. 2019-06380 Filed 4-1-19; 8:45 am]

BILLING CODE 6717-01-P